DEPARTMENT OF COMMERCE

National Oceanic and Atmospheric Administration

[I.D. 092006F]

Endangered Species; File No. 1448

AGENCY: National Marine Fisheries Service (NMFS), National Oceanic and Atmospheric Administration (NOAA), Commerce.

ACTION: Notice; receipt of application for modification

SUMMARY: Notice is hereby given that Northeast Fisheries Science Center, National Marine Fisheries Service, 166 Water Street, Woods Hole, MA 02543-1097, has requested a modification to scientific research Permit No. 1448.

DATES: Written, telefaxed, or e-mail comments must be received on or before October 27, 2006.

ADDRESSES: The modification request and related documents are available for review upon written request or by appointment in the following office(s):

Permits, Conservation and Education Division, Office of Protected Resources, NMFS, 1315 East-West Highway, Room 13705, Silver Spring, MD 20910; phone (301)713-2289; fax (301)427-2521; and

Northeast Region, NMFS, One Blackburn Drive, Gloucester, MA 01930-2298; phone (978)281-9300; fax (978)281-9394.

Written comments or requests for a public hearing on this request should be submitted to the Chief, Permits, Conservation and Education Division, F/PR1, Office of Protected Resources, NMFS, 1315 East-West Highway, Room 13705, Silver Spring, MD 20910. Those individuals requesting a hearing should set forth the specific reasons why a hearing on this particular modification request would be appropriate.

Comments may also be submitted by facsimile at (301)427-2521, provided the facsimile is confirmed by hard copy submitted by mail and postmarked no later than the closing date of the comment period.

Comments may also be submitted by e-mail. The mailbox address for providing e-mail comments is NMFS.Pr1Comments@noaa.gov. Include in the subject line of the e-mail comment the following document identifier: File No. 1448.

FOR FURTHER INFORMATION CONTACT: Patrick Opay or Amy Hapeman, (301)713-2289.

SUPPLEMENTARY INFORMATION: The subject modification to Permit No. 1448, issued on January 9, 2004 (69 FR 3332) is requested under the authority of the Endangered Species Act of 1973, as amended (16 U.S.C. 1531 et seq.) and the regulations governing the taking, importing, and exporting of endangered and threatened species (50 CFR 222-226).

Permit No. 1448 authorizes the permit holder to handle, measure, flipper tag, scan for Passive Integrated Transponder (PIT) tags, biopsy sample and photograph a total of 1,500 loggerhead, 50 green, 250 leatherback and 50 hawksbill sea turtles and handle, measure, flipper tag, scan for PIT tags and photograph a total of 50 Kemp's ridley sea turtles over the duration of the permit. Seventy-five of the loggerheads and 20 of the Kemp's ridleys will also be dip-netted. This research is conducted on animals that have been already incidentally captured in commercial fisheries operating in state waters and the Exclusive Economic Zone in the Northwest Atlantic Ocean to determine the size and composition of populations of sea turtles found in the commercial fishing areas of the Northwest Atlantic Ocean and to establish individual identities of turtles. The permit holder requests additional authorization to biopsy sample any of the 50 Kemp's ridley sea turtles for which the permit holder is already authorized to handle, measure, flipper tag, scan for PIT tags and photograph that are greater than 25 cm in total carapace length notch to tip). Tissue biopsies would be collected using the same protocol currently authorized by the existing permit. This data would help confirm observer identifications of sea turtles made by collaborating NOAA researchers.

Dated: September 21, 2006.
P. Michael Payne,
Chief, Permits, Conservation and Education Division, Office of Protected Resources, National Marine Fisheries Service.

[FR Doc. E6-15825 Filed 9-26-06; 8:45 am]

BILLING CODE 3510-22-S